DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, email paperwork@hrsa.gov or call the HRSA Reports Clearance Officer at (301) 443-1984.

Comments are invited on: (a) The proposed collection of information for the proper performance of the functions of the Agency; (b) the accuracy of the Agency's estimate of the burden of the proposed collection of information; (c) ways to enhance the quality, utility, and clarity of the information to be collected; and (d) ways to minimize the burden of the collection of information on respondents, including through the use of automated collection techniques or other forms of information technology.

Proposed Project: Patient Navigator Outreach and Chronic Disease Prevention Demonstration Program (OMB No. 0915-0346)—[Revision]

This is a revision to a data collection previously approved for the Patient Navigator Outreach and Chronic Disease Prevention Demonstration Program (PNDP). Authorized under section 340A of the Public Health Service Act, as amended by Section 3510 of the Patient Protection and Affordable Care Act, PNDP supports the development and operation of projects to provide patient navigator services to improve health outcomes for individuals with cancer and other chronic diseases, with a specific emphasis on health disparities populations. Award recipients are to use grant funds to recruit, assign, train, and employ patient navigators who have direct knowledge of the communities they serve in order to facilitate the care of those who are at risk for or who have cancer or other chronic diseases, including conducting outreach to health disparities populations.

As authorized by the statute, an evaluation of the outcomes of the program must be submitted to Congress. The purpose of these data collection instruments, including navigated patient data intake, VR-12 health status, patient navigator survey, patient navigator encounter/tracking log, patient medical record and clinic data, clinic rates (baseline measures), quarterly reports, and focus group discussion guides is to provide data to inform and support the Report to Congress for: the quantitative analysis of baseline and benchmark measures; aggregate information about the patients served and program activities; and recommendations on whether patient navigator programs could be used to improve patient outcomes in other public health areas.

A single instrument, the Client Opinion Form, has been added to this collection, resulting in an increase of 579.2 burden hours.

The annual estimate of burden is as follows:

Form | Number of respondents | Responses per respondent | Total responses | Hours per response | Total burden hours
Navigated Patient Data Intake Form | 4,827 | 1.0 | 4,827.00 | 0.50 | 2,413.50
VR-12 Health Status Form | 4,827 | 2.0 | 9,654.00 | 0.12 | 1,158.50
Client Opinion Form | 4,827 | 1.0 | 4,827.00 | 0.12 | 579.24
SubTotal—Patient Burden | 4,827 |  |  |  | 4,151.22
Patient Navigator Survey | 46 | 1.0 | 46.00 | 0.20 | 9.20
Patient Navigator Encounter/Target Services Log | 46 | 629.6 | 28,961.60 | 0.25 | 7,240.40
Patient Navigator Focus Group | 46 | 1.0 | 46.00 | 1.00 | 46.00
SubTotal—Patient Navigator Burden | 46 |  |  |  | 7,295.60
Patient Medical Record and Clinic Data | 10 | 482.7 | 4,827.00 | 0.17 | 820.59
Annual Clinic-Wide Clinical Performance Measures Report | 5 | 1.0 | 5.00 | 8.00 | 40.00
Patient Navigator Cultural Competency Checklist | 10 | 4.6 | 46.00 | 1.17 | 53.82
Patient Navigator/Health System Administrator Focus Group | 50 | 1.0 | 50.00 | 1.00 | 50.00
Grantee Health Care Provider Focus Group | 30 | 1.0 | 30.00 | 1.00 | 30.00
Social Service Provider Focus Group | 50 | 1.0 | 50.00 | 1.00 | 50.00
Quarterly Report | 10 | 4.0 | 40.00 | 1.00 | 40.00
SubTotal—Grantee Burden | 165 |  |  |  | 1084.41
Totals | 5,038 |  | 53,409.60 |  | 12,531.23

Email comments to paperwork@hrsa.gov or mail the HRSA Reports Clearance Officer, Room 10-33, Parklawn Building, 5600 Fishers Lane, Rockville, MD 20857. Written comments should be received within 60 days of this notice.

Dated: March 16, 2012.
Reva Harris,
Acting Director, Division of Policy and Information Coordination.

[FR Doc. 2012-7085 Filed 3-22-12; 8:45 am]

BILLING CODE 4165-15-P